DEPARTMENT OF ENERGY

Federal Energy Regulatory Commission

[Docket No. IC22-30-000]

Commission Information Collection Activities (FERC-725N); Comment Request; Extension

AGENCY: Federal Energy Regulatory Commission.

ACTION: Notice of information collection and request for comments.

SUMMARY: In compliance with the requirements of the Paperwork Reduction Act of 1995, the Federal Energy Regulatory Commission FERC-725N, (Mandatory Reliability Standards TPL-007-4, Transmission System Planned Performance for Geomagnetic Disturbance Events), which will be submitted to the Office of Management and Budget (OMB) for review. No Comments were received on the 60-day notice published on September 29, 2022.

DATES: Comments on the collection of information are due February 23, 2023.

ADDRESSES: Send written comments on FERC-725N to OMB through www.reginfo.gov/public/do/PRAMain. Attention: Federal Energy Regulatory Commission Desk Officer. Please identify the OMB Control Number (1902-0264) in the subject line of your comments. Comments should be sent within 30 days of publication of this notice to www.reginfo.gov/public/do/PRAMain.

Please submit copies of your comments to the Commission. You may submit copies of your comments (identified by Docket No. IC22-30-000) by one of the following methods:

Electronic filing through https://www.ferc.gov, is preferred.

• Electronic Filing: Documents must be filed in acceptable native applications and print-to-PDF, but not in scanned or picture format.

• For those unable to file electronically, comments may be filed by USPS mail or by hand (including courier) delivery.

○ Mail via U.S. Postal Service Only: Addressed to: Federal Energy Regulatory Commission, Secretary of the Commission, 888 First Street NE, Washington, DC 20426.

○ Hand (Including Courier) Delivery: Deliver to: Federal Energy Regulatory Commission, Secretary of the Commission, 12225 Wilkins Avenue, Rockville, MD 20852.

Instructions: OMB submissions must be formatted and filed in accordance with submission guidelines at www.reginfo.gov/public/do/PRAMain. Using the search function under the “Currently Under Review” field, select Federal Energy Regulatory Commission; click “submit,” and select “comment” to the right of the subject collection.

FERC submissions must be formatted and filed in accordance with submission guidelines at: https://www.ferc.gov. For user assistance, contact FERC Online Support by email at ferconlinesupport@ferc.gov, or by phone at: (866) 208-3676 (toll-free).

Docket: Users interested in receiving automatic notification of activity in this docket or in viewing/downloading comments and issuances in this docket may do so at https://www.ferc.gov/ferc-online/overview.

FOR FURTHER INFORMATION CONTACT: Ellen Brown may be reached by email at DataClearance@FERC.gov, telephone at (202) 502-8663.

SUPPLEMENTARY INFORMATION:

Title: FERC-725N, Mandatory Reliability Standards TPL-007-4, Transmission System Planned Performance for Geomagnetic Disturbance Events.

OMB Control No.: 1902-0264.

Type of Request: Extension of the currently approved collection.

Abstract: On August 8, 2005, Congress enacted into law the Electricity Modernization Act of 2005, which is Title XII, Subtitle A, of the Energy Policy Act of 2005 (EPAct 2005).¹ EPAct 2005 added a new section 215 to the Federal Power Act (FPA), which requires a Commission-certified Electric Reliability Organization (ERO) to develop mandatory and enforceable Reliability Standards, which are subject to Commission review and approval. Once approved, the Reliability Standards may be enforced by the ERO subject to Commission oversight, or the Commission can independently enforce Reliability Standards.²

¹ Energy Policy Act of 2005, Public Law 109-58, Title XII, Subtitle A, 119 Stat. 594, 941 (codified at 16 U.S.C. 824o).

² 16 U.S.C. 824o(e)(3).

On February 3, 2006, the Commission issued Order No. 672, implementing section 215 of the FPA.³ Pursuant to Order No. 672, the Commission certified one organization, North American Electric Reliability Corporation (NERC), as the ERO.⁴ The Reliability Standards developed by the ERO and approved by the Commission apply to users, owners and operators of the Bulk-Power System as set forth in each Reliability Standard.

³ Rules Concerning Certification of the Electric Reliability Organization; and Procedures for the Establishment, Approval, and Enforcement of Electric Reliability Standards, Order No. 672, FERC Stats. & Regs. ¶ 31,204, order on reh'g, Order No. 672-A, FERC Stats. & Regs. ¶ 31,212 (2006).

⁴ North American Electric Reliability Corp., 116 FERC ¶ 61,062, order on reh'g and compliance, 117 FERC ¶ 61,126 (2006), order on compliance, 118 FERC ¶ 61,190, order on reh'g, 119 FERC ¶ 61,046 (2007), aff'd sub nom. Alcoa Inc. v. FERC, 564 F.3d 1342 (D.C. Cir. 2009).

Pursuant to section 215(d)(2) of the FPA),⁵ the Commission approved Reliability Standard TPL-001-5 (Transmission System Planning Performance Requirements). The North American Electric Reliability Corporation (NERC), the Commission-certified Electric Reliability Organization (ERO), submitted the proposed Reliability Standard TPL-001-5 for Commission approval to address: (1) reliability issues concerning the study of single points of failure of protection systems discussed in Order No. 754; ⁶ and (2) directives from Order No. 786 ⁷ regarding planned maintenance outages and stability analysis for spare equipment strategy.

⁵ 16 U.S.C. 824o(d)(2).

⁶ In Order No. 754, the Commission determined that there is “an issue concerning the study of the non‐operation of non‐redundant primary protection systems; e.g., the study of a single point of failure on protection systems.” Interpretation of Transmission Planning Reliability Standard, Order No. 754, 136 FERC ¶ 61,186, at P 19 (2011). The phrases “non‐operation of a non‐redundant component of a protection system” and “protection system single points of failure” are used interchangeably in this memorandum.

⁷ Transmission Planning Reliability Standards, Order No. 786, 145 FERC ¶ 61,051 (2013).

On February 7, 2020, the North American Electric Reliability Corporation filed a petition seeking approval of proposed Reliability Standard TPL-007-4 (Transmission System Planned Performance for Geomagnetic Disturbance Events). The Reliability Standard TPL-007-4 requires owners and operators of the Bulk-Power System to conduct initial and on-going vulnerability assessments of the potential impact of defined geomagnetic disturbance events on Bulk-Power System equipment and the Bulk-Power System as a whole. Specifically, the Reliability Standard requires entities to develop corrective action plans for vulnerabilities identified through supplemental geomagnetic disturbance vulnerability assessments and requires entities to seek approval from the Electric Reliability Organization of any extensions of time for the completion of corrective action plan items.

Type of Respondents: Generator Owners, Planning Coordinators, Distribution Providers and Transmission Owners.

Estimate of Annual Burden: ⁸ Our estimates are based on the NERC Compliance Registry Summary of Entities as of September 16, 2022.

⁸ Burden is defined as the total time, effort, or financial resources expended by persons to generate, maintain, retain, or disclose or provide information to or for a federal agency. See 5 CFR 1320 for additional information on the definition of information collection burden.

The individual burden estimates include the time needed to gather data, run studies, and analyze study results. These are consistent with estimates for similar tasks in other Commission-approved standards. Estimates for the additional average annual burden and cost ⁹ as follows:

⁹ Both Electrical Engineers ($77.02/hr.) and Information and Record Clerks ($42.35/hr.) support the information collection and a composite percent split (60/40) cost per hour will be used. Cost per Response = [($77.02 * (0.60)) + ($42.35 * (0.40))] = [$46.21 + $16.94] = $63.15/hr. from the Bureau of Labor and Statistics at http://bls.gov/oes/current/naics3_221000.htm, as of June 2022.

FERC-725N—Mandatory Reliability Standards TPL-001-5.1 and TPL-007-4, Transmission System Planned Performance for Geomagnetic Disturbance Events
| Annual number ¹ of respondents | Annual number of responses per respondent | Total number of responses | Average burden hours and cost ($) per response | Total annual burden hours and cost ($) (rounded) | Cost per respondent ($)
| (1) | (2) | (1) * (2) = (3) | (4) | (3) * (4) = (5) | (5) ÷ (1)
Mandatory Reliability Standard TPL-001-5.1
TPL-001-5.1 Reliability Standard | 63(PC) 205(TP) | 1 1 | 63 205 | 143 hrs.; $9,030.45 44 hrs.; $2,778.60 | 9,020 hrs.; $569,613 9,020 hrs.; $569,613 | $9,030.45 2,778.60
Total for TPL-001-5.1 |  |  | 268 |  | 18,040 hrs.; $1,139,226 |
Mandatory Reliability Standard TPL-007-4
GO ¹⁰ | 1,107 | 1 | 1,107 | 36 hrs.; $2,273.40 | 39,880 hrs.; $2,598,182 | 2,273.40
PC ¹¹ | 61 | 1 | 61 | 264 hrs.; $16,671.60 | 16,101 hrs.; $1,016,778.15 | 16,671.60
TP ¹² | 205 | 1 | 205 | 127 hrs.; $8,020.05 | 25,981 hrs.; $1,640,700.15 | 8,020.05
TO ¹³ | 326 | 1 | 326 | 43 hrs.; $2,715.45 | 13,960 hrs.; $881,574 | 2,715,.45
Total for TPL-007-4 |  |  | 1,699 |  | 95,922 hrs; $6,057,474.3 |
Total for FERC-725N |  |  | 1,967 |  | 113,962 hrs.; $7,196,700.30 |

For TPL-001-5.1 the number of respondents has been increased slightly to reflect the type of entities—planning coordinators reflected and average over a three-year timeframe that was reported from RD20-3 ongoing burden from the previous approval, and tried to account for overlap between entities, but the overall annual manhours remain about the same. With this renewal the table more accurately represent the entities on a yearly basis.

¹⁰ Generator Owner.

¹¹ Planning Coordinator.

¹² Distribution Provider.

¹³ Transmission Owner.

The entities with responsibility for these standards—planning coordinators (PC=61) and transmission planners (TP=205) are taken from the NERC Compliance Registration information of November 4, 2022 (updated from the 60-day notice) for unique US entities.

For TPL-007-4 the number of respondents has been reduced as the standard (TPL-007-4) was revised several times and individual information collection respondent counts result in same type of entity being counted multiple times. The change also corrects in TPL-007-4 the distribution provided (DP) was used instead of transmission provider (TP) so was a contributing factor to the overall decrease in number of respondents. The updated values more truly represent the cumulative responsibility of each entity on the work they must do, and the overall annual manhours remains about the same. With this renewal the table for TPL-007-4 more accurately represent the entities on a yearly basis.

The entities with responsibility for these standards have been updated to (generator owner (GO=1,107), transmission owner (TO=326), planning coordinator (PC=61), and transmission planner (TP=205)) are taken from the NERC Compliance Registration information of November 4, 2022, for unique US entities.

Comments: Comments are invited on: (1) whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

Dated: January 18, 2023.
Kimberly D. Bose,
Secretary.

[FR Doc. 2023-01318 Filed 1-23-23; 8:45 am]

BILLING CODE 6717-01-P